DEPARTMENT OF ENERGY

Federal Energy Regulatory Commission

Combined Notice of Filings

Take notice that the Commission has received the following Natural Gas Pipeline Rate and Refund Report filings:

Docket Numbers: RP20-1036-000.

Applicants: Greylock Pipeline, LLC.

Description: Tariff Cancellation: Full Tariff Cancellation to be effective 8/1/2020.

Filed Date: 7/24/20.

Accession Number: 20200724-5000.

Comments Due: 5 p.m. ET 8/5/20.

Docket Numbers: RP20-1037-000.

Applicants: Portland Natural Gas Transmission System.

Description: § 4(d) Rate Filing: PXP Ph II Agmt Shipper Name Change to be effective 7/24/2020.

Filed Date: 7/24/20.

Accession Number: 20200724-5027.

Comments Due: 5 p.m. ET 8/5/20.

Docket Numbers: RP20-1039-000.

Applicants: Greylock Shawville Pipeline, LLC.

Description: § 4(d) Rate Filing: Normal filing Change in name to be effective 8/1/2020.

Filed Date: 7/24/20.

Accession Number: 20200724-5072.

Comments Due: 5 p.m. ET 8/5/20.

Docket Numbers: RP20-1040-000.

Applicants: Enable Gas Transmission, LLC.

Description: § 4(d) Rate Filing: Negotiated Rate Filing—July 24 2020 Tenaska to be effective 7/24/2020.

Filed Date: 7/24/20.

Accession Number: 20200724-5111.

Comments Due: 5 p.m. ET 8/5/20.

Docket Numbers: RP20-1041-000.

Applicants: Greylock Pipeline, LLC.

Description: § 4(d) Rate Filing: base line new to be effective 8/1/2020.

Filed Date: 7/24/20.

Accession Number: 20200724-5133.

Comments Due: 5 p.m. ET 8/5/20.

Docket Numbers: RP20-1042-000.

Applicants: Northern Natural Gas Company.

Description: Compliance filing 20200724 2019 Operational Purchases and Sales Report to be effective N/A.

Filed Date: 7/24/20.

Accession Number: 20200724-5159.

Comments Due: 5 p.m. ET 8/5/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at:

http://www.ferc.gov/docs-filing/efiling/filing-req.pdf. For other information, call (866) 208-3676 (toll free). For TTY, call (202) 502-8659.

Dated: July 27, 2020.
Nathaniel J. Davis, Sr.,
Deputy Secretary.

[FR Doc. 2020-16673 Filed 7-30-20; 8:45 am]

BILLING CODE 6717-01-P